DEPARTMENT OF COMMERCE

International Trade Administration

A-580-816

Certain Corrosion-Resistant Carbon Steel Flat Products from the Republic of Korea: Notice of Amended Final Results of the Fourteenth Antidumping Duty Administrative Review

AGENCY: Import Administration, International Trade Administration, Department of Commerce.

SUMMARY: On March 16, 2009, the Department of Commerce (the Department) published its final results of the fourteenth administrative review for certain corrosion-resistant carbon steel flat products (CORE) from the Republic of Korea (Korea) for the period from August 1, 2006, through July 31, 2007. We are amending our final results to correct ministerial errors made in the calculation of the dumping margins for Dongbu Steel Co., Ltd., (Dongbu), Hyundai HYSCO (HYSCO), and Pohang Iron & Steel Co., Ltd. (POSCO) and Pohang Coated Steel Co., Ltd. (POCOS) (collectively, the POSCO), pursuant to section 751(h) of the Tariff Act of 1930, as amended (the Act).

EFFECTIVE DATE: April 28, 2009.

FOR FURTHER INFORMATION CONTACT: Christopher Hargett, AD/CVD Operations, Office 3, Import Administration, International Trade Administration, U.S. Department of Commerce, 14th Street and Constitution Avenue NW, Washington, DC 20230; telephone: (202) 482-4161.

SUPPLEMENTARY INFORMATION:

Background

On March 16, 2009, the Department published its final results of the fourteenth administrative review for CORE from Korea for the period from August 1, 2006, through July 31, 2007. See Certain Corrosion-Resistant Carbon Steel Flat Products from the Republic of Korea: Notice of Final Results of the Fourteenth Administrative Review and Partial Rescission, 74 FR 11082 (March 16, 2009) (Final Results).

On March 17, 2009, pursuant to 19 CFR 351.224(c), United States Steel Corporation (U.S. Steel), POSCO, and HYSCO submitted comments alleging ministerial errors, and requested that the Department correct these alleged ministerial errors. On March 23, 2009, U.S. Steel and Nucor Corporation (Nucor) submitted responses to the ministerial error allegations made by HYSCO and POSCO.

On March 17, 2009, U.S. Steel alleged that, with respect to Dongbu, the Department inadvertently used the difference between the payment date and the date of sale as the credit period for the calculation of credit expense in the home market instead of using Dongbu's submitted customer-specific credit period. Further, U.S. Steel alleged that, with respect to HYSCO, the Department used the incorrect beginning and ending day for the period reviewed for calculation of the comparison market and margin programs.

On March 17, 2009, POSCO alleged that: 1) the Department did not use the whole month for the beginning and ending window period of the comparison market and margin programs; 2) the Department inadvertently included the variable for indirect selling expenses incurred in Korea on export sales (“DINDIRSU”) to be converted from Korean Won to U.S. Dollars, when DINDIRSU was reported in U.S. Dollars and did not need to be converted; and 3) the Department should have included negative dumping margins in the calculation of the weighted-average dumping margin, instead of applying the methodology which denies offsets for non-dumped sales.

On March 17, 2009, HYSCO alleged that the Department incorrectly applied an interest expense ratio based on the 2006 consolidated financial statement for calculation of the 2007 interest expense. HYSCO argued that there is information on the record that would allow the Department to calculate the actual interest expenses for fiscal year 2007. HYSCO also alleged that the Department did not make the full deductions of transportation expenses and “other expenses” in its calculation of the general and administrative (G&A) expense ratio for 2007.

On March 23, 2009, U.S. Steel and Nucor responded to POSCO's ministerial error allegations arguing: 1) that the Department intended to apply the zeroing methodology to POSCO's margin calculations, and that it is not a ministerial error, and 2) that the change of the window period in the comparison market and margin programs, and the change to the treatment of DINDIRSU will have no appreciable difference on the margin. Thus, the Department should not publish an amended Final Results.

On March 23, 2009, U.S. Steel also responded to HYSCO's ministerial error allegations. U.S. Steel argued that: 1) the Department intended to make changes to the G&A expense ratio by applying the 2006 movement expense ratio to total selling expenses, and to exclude the “others” category from the non-operating income, and thus, the changes are not ministerial errors; 2) the Department intended to apply the calculated ratio of long-term to short-term interest rates using 2006 data to the 2007 calculation of interest expenses, and thus, the changes are not ministerial errors; and 3) HYSCO's proposed changes are based on new factual information, not previously on the record of this proceeding.

On March 25, 2009, Union Steel Manufacturing Co., Ltd. filed a summons and complaint with the Court of International Trade (CIT) challenging various aspects of the Final Results.

Pursuant to 19 C.F.R. 351.224(e), due to the number of ministerial error allegations, and the number of submissions regarding the ministerial error allegations, the Department has not found it practicable to analyze comments received and correct any potential errors within 30 days of the publication of the Final Results.

Scope of the Order

This order covers cold-rolled (cold-reduced) carbon steel flat-rolled carbon steel products, of rectangular shape, either clad, plated, or coated with corrosion-resistant metals such as zinc, aluminum, or zinc-, aluminum-, nickel- or iron-based alloys, whether or not corrugated or painted, varnished or coated with plastics or other nonmetallic substances in addition to the metallic coating, in coils (whether or not in successively superimposed layers) and of a width of 0.5 inch or greater, or in straight lengths which, if of a thickness less than 4.75 millimeters, are of a width of 0.5 inch or greater and which measures at least 10 times the thickness or if of a thickness of 4.75 millimeters or more are of a width which exceeds 150 millimeters and measures at least twice the thickness, as currently classifiable in the Harmonized Tariff Schedule of the United States (HTSUS) under item numbers 7210.30.0030, 7210.30.0060, 7210.41.0000, 7210.49.0030, 7210.49.0090, 7210.61.0000, 7210.69.0000, 7210.70.6030, 7210.70.6060, 7210.70.6090, 7210.90.1000, 7210.90.6000, 7210.90.9000, 7212.20.0000, 7212.30.1030, 7212.30.1090, 7212.30.3000, 7212.30.5000, 7212.40.1000, 7212.40.5000, 7212.50.0000, 7212.60.0000, 7215.90.1000, 7215.90.3000, 7215.90.5000, 7217.20.1500, 7217.30.1530, 7217.30.1560, 7217.90.1000, 7217.90.5030, 7217.90.5060, 7217.90.5090. Included in this order are corrosion-resistant flat-rolled products of non-rectangular cross-section where such cross-section is achieved subsequent to the rolling process (i.e., products which have been “worked after rolling”) - for example, products which have been beveled or rounded at the edges. Excluded from this order are flat-rolled steel products either plated or coated with tin, lead, chromium, chromium oxides, both tin and lead (terne plate), or both chromium and chromium oxides (tin-free steel), whether or not painted, varnished or coated with plastics or other nonmetallic substances in addition to the metallic coating. Also excluded from this order are clad products in straight lengths of 0.1875 inch or more in composite thickness and of a width which exceeds 150 millimeters and measures at least twice the thickness. Also excluded from this order are certain clad stainless flat-rolled products, which are three-layered corrosion-resistant carbon steel flat-rolled products less than 4.75 millimeters in composite thickness that consist of a carbon steel flat-rolled product clad on both sides with stainless steel in a 20%%-60%%-20%% ratio.

These HTSUS item numbers are provided for convenience and customs purposes. The written descriptions remain dispositive.

Amended Final Results of Review

After analyzing U.S. Steel's comments, we have determined, in accordance with section 751(h) of the Act and 19 CFR 351.224, that the Department has made a ministerial error in the final results calculation for Dongbu in this administrative review. The Department has re-calculated Dongbu's credit expense using the customer-specific credit period, as reported by Dongbu. For a detailed discussion of the ministerial error, see “Memorandum from James Terpstra to Melissa Skinner, re: Amended Final Results for the Fourteenth Administrative Review of the Antidumping Duty Order on Certain Corrosion-Resistant Carbon Steel Flat Products from the Republic of Korea (Period of Review: August 1, 2006, through July 31, 2007): Allegations of Ministerial Errors,” dated April 20, 2009 (Ministerial Error memo); see also “Memorandum from Christopher Hargett to James Terpstra, re: Amended Final Results in the 06/07 Administrative Review on Corrosion-Resistant Carbon Steel Flat Products from Korea: Calculation Memorandum for Dongbu Steel Co., Ltd.,” dated April 20, 2009.

After analyzing POSCO's comments, we have determined that we erred by not beginning the window period on the first day of the month in question and not ending the window period on the last day of the month in question. Further, we agree that we incorrectly included DINDRSU to the list of variables to be converted from Korean Won to U.S. Dollars. We disagree with POSCO regarding the treatment of sales that may have occurred for which the export price (or constructed export price) exceeded normal value. The Department's treatment of any such sales that may have occurred was not a ministerial error.

The Department agrees with Nucor that the changes to the calculations of POSCO's margin in this administrative review do not result in a revised rate. Although the calculated rate for POSCO remains unchanged, the Department is making the aforementioned programming changes in accordance with the Department's practice. See Ministerial Error memo; see also “Memorandum from Christopher Hargett to James Terpstra, re: Amended Final Results in the 06/07 Administrative Review on Corrosion-Resistant Carbon Steel Flat Products from Korea: Calculation Memorandum for Pohang Iron & Steel Company, Ltd. (POSCO), and Pohang Coated Steel Co., Ltd.(POCOS)(collectively, the POSCO Group),” dated April 20, 2009.

After analyzing HYSCO's comments, we have determined that we did not make a clerical error with regard to the financial expense ratio. In order to be consistent with the facts on the record, we chose to follow the exact interest income allocation methodology that HYSCO used in the 2006 financial expense ratio calculation in its section D questionnaire response, dated February 4, 2008. This methodology reasonably allocates interest income based on a ratio of short-term and long-term deposits.

With regard to the error allegation on movement expenses, we agree with HYSCO that we made a clerical error by inadvertently not deducting the total Freight and Export Expenses from the SG&A calculation. The record demonstrates that both of these line items are most likely related to freight-out. Regarding the “others income” in the calculation of HYSCO's G&A expenses, we find that the Department intended to exclude the “others income” as an offset to G&A.

With regard to the error allegation that we used the incorrect beginning and ending day for the period reviewed for calculation of the comparison market and margin programs, we agree with U.S. Steel that we used the incorrect beginning and ending day. Therefore, in accordance with the Department's practice, we are correcting theses dates to reflect the first and last dates of the sales in question. See Ministerial Error memo; see also “Memorandum from Christopher Hargett to James Terpstra, Amended Final Results of the Fourteenth Administrative Review of Certain Corrosion-Resistant Carbon Steel Flat Products from Korea: Calculation Memorandum for Hyundai HYSCO,” dated April 20, 2009.

We are revising the review-specific average rate to reflect the weighted average rate based on the amended results of the companies subject to the instant review. See “Memorandum from Christopher Hargett to James Terpstra, Amended Final Results in the 06/07 Administrative Review of Corrosion-Resistant Carbon Steel Flat Products from Korea: Calculation of Review-Specific Average Rate,” dated April 20, 2009.

In accordance with section 751(h) of the Act, we are amending the final results of the antidumping duty administrative review of CORE from Korea for the period August 1, 2006, to July 31, 2007. As a result of correcting the ministerial errors discussed above, and in the company-specific memos listed above, the following margins apply:

Company | Final Margin | Amended Final Margin
Dongbu | 1.85 | 1.90
POSCO | 0.53 | 0.53
HYSCO | 1.57 | 1.52
Review - Specific Average¹ | 5.01 | 5.01
¹ The review-specific average rate is applicable to LG Chem., Ltd., and Dongkuk Industries Co., Ltd. This rate is based on the weighted average of the margins calculated for those companies selected for individual review, excluding de minimis margins or margins based entirely on adverse facts available, and do not change after recalculating the margins for Dongbu, POSCO and HYSCO.

Assessment

The Department will determine, and U.S. Customs and Border Protection (CBP) shall assess, antidumping duties on all appropriate entries, pursuant to 19 CFR 351.212(b). The Department calculated importer-specific duty assessment rates on the basis of the ratio of the total antidumping duties calculated for the examined sales to the total entered value of the examined sales for that importer. Where the assessment rate is above de minimis, we will instruct CBP to assess duties on all entries of subject merchandise by that importer. The Department intends to issue appropriate assessment instructions directly to CBP 15 days after publication of these amended final results of review.

The Department clarified its “automatic assessment'” regulation on May 6, 2003 (68 FR 23954). This clarification applies to POR entries of subject merchandise produced by companies examined in this review (i.e., companies for which a dumping margin was calculated) where the companies did not know that their merchandise was destined for the United States. In such instances, we will instruct CBP to liquidate unreviewed entries at the all-others rate if there is no rate for the intermediate company(ies) involved in the transaction. For a full discussion of this clarification, see Antidumping and Countervailing Duty Proceedings: Assessment of Antidumping Duties, 68 FR 23954 (May 6, 2003).

Cash Deposit Requirements

The following deposit requirements will be effective upon publication of the final results of this administrative review for all shipments of CORE from Korea entered, or withdrawn from warehouse, for consumption on or after the publication date of these final results, as provided by section 751(a) of the Act: (1) for companies covered by this review, the cash deposit rate will be the rate listed above; (2) for previously reviewed or investigated companies other than those covered by this review, the cash deposit rate will be the company-specific rate established for the most recent period; (3) if the exporter is not a firm covered in this review, a prior review, or the less-than-fair-value investigation, but the producer is, the cash deposit rate will be the rate established for the most recent period for the manufacturer of the subject merchandise; and (4) if neither the exporter nor the producer is a firm covered in this review, a prior review, or the investigation, the cash deposit rate will be 17.70 percent, the all-others rate established in the less-than-fair-value investigation. These deposit requirements shall remain in effect until further notice.

Reimbursement of Duties

This notice also serves as a final reminder to importers of their responsibility under 19 CFR 351.402(f) to file a certificate regarding the reimbursement of antidumping and/or countervailing duties prior to liquidation of the relevant entries during this review period. Failure to comply with this requirement could result in the presumption that reimbursement of antidumping and/or countervailing duties occurred and the subsequent increase in antidumping duties by the amount of antidumping and/or countervailing duties reimbursed.

Administrative Protective Order

This notice also is the only reminder to parties subject to administrative protective order (APO) of their responsibility concerning the return or destruction of proprietary information disclosed under APO in accordance with 19 CFR 351.305. Timely written notification of the return/destruction of APO materials or conversion to judicial protective order is hereby requested. Failure to comply with the regulations and the terms of an APO is a sanctionable violation.

These amended final results of administrative review and notice are issued and published in accordance with sections 751(a)(1) and (h), and 777(i)(1) of the Act, and 19 CFR 351.224.

Dated: April 22, 2009.
Ronald K. Lorentzen,
Acting Assistant Secretary for Import Administration.

[FR Doc. E9-9676 Filed 4-27-09; 8:45 am]

BILLING CODE 3510-DS-S